Title 3—

The President

Proclamation 8274 of July 18, 2008

Captive Nations Week, 2008

By the President of the United States of America

A Proclamation

Freedom is the longing of every soul and the birthright of all mankind. During Captive Nations Week, we underscore our commitment to advancing democracy, defending liberty, and protecting human rights around the world.

It is in our Nation's interest to help those who are suffering under oppressive regimes defeat the ideologues of hate with an ideology of hope. Advancing the cause of liberty advances the cause of peace. A free society upholds justice and defends human dignity. Over the years, many have underestimated the power of freedom to overcome tyranny, but history has shown us that freedom will prevail.

In the 20th century, the evils of Soviet communism and Nazi fascism were defeated and freedom spread around the world as new democracies emerged. Today, our Nation faces new struggles with adversaries who murder the innocent and seek to subject millions to their violent, totalitarian rule. Still, we remain confident that the light of liberty will again overcome this darkness.

To bring that day about, we must support young democracies in places like Afghanistan and Iraq. In countries like Belarus, Burma, Cuba, Iran, North Korea, Sudan, Syria, and Zimbabwe, people continue to live under oppressive regimes, and we will work for the day when all these nations are free. By opposing these despots and helping young democracies grow, we will lay the foundation of peace and prosperity for generations to come. Throughout Captive Nations Week, we renew our pledge that as people across the world find their own paths to freedom, they will also find a friend in the United States of America.

The Congress, by Joint Resolution approved July 17, 1959 (73 Stat. 212), has authorized and requested the President to issue a proclamation designating the third week in July of each year as “Captive Nations Week.”

NOW, THEREFORE, I, GEORGE W. BUSH, President of the United States of America, by virtue of the authority vested in me by the Constitution and laws of the United States, do hereby proclaim July 20 through July 26, 2008, as Captive Nations Week. I call upon the people of the United States to reaffirm our commitment to all those seeking liberty, justice, and self-determination.

IN WITNESS WHEREOF, I have hereunto set my hand this eighteenth day of July, in the year of our Lord two thousand eight, and of the Independence of the United States of America the two hundred and thirty-third.

[FR Doc. 08-1464

Filed 07-22-08; 8:45 am]

Billing code 3195-W8-P